DEPARTMENT OF THE INTERIOR

Bureau of Land Management

[MT-926-02-1420-BJ]

Survey Plat Filings

AGENCY: Bureau of Land Management, Montana State Office, Interior.

ACTION: Filing of amended protraction diagram plats.

SUMMARY: The plats of the amended protraction diagram accepted June 11, 2002, of the following described lands, are scheduled to be officially filed in the Montana State Office, Billings, Montana, thirty (30) days from the date of this publication.

SUPPLEMENTARY INFORMATION:

Principal Meridian, Montana

Tps. 8, 9, 10, 11, and 12 S., Rs. 1, 2, and 3 W.

The plat, representing the Amended Protraction Diagram 58 Index of unsurveyed Townships 8, 9, 10, 11, and 12 South, Ranges 1, 2, and 3 West, Principal Meridian, Montana, was accepted June 11, 2002.

T. 8 S., R. 2 W.

The plat, representing Amended Protraction Diagram 58 of unsurveyed Township 8 South, Range 2 West, Principal Meridian, Montana, was accepted June 11, 2002.

T. 9 S., R. 2 W.

The plat, representing Amended Protraction Diagram 58 of unsurveyed Township 9 South, Range 2 West, Principal Meridian, Montana, was accepted June 11, 2002.

T. 9 S., R. 1 W.

The plat, representing Amended Protraction Diagram 58 of unsurveyed Township 9 South, Range 1 West, Principal Meridian, Montana, was accepted June 11, 2002.

T. 10 S., R. 2 W.

The plat, representing Amended Protraction Diagram 58 of unsurveyed Township 10 South, Range 2 West, Principal Meridian, Montana, was accepted June 11, 2002.

T. 11 S., R. 2 W.

The plat, representing Amended Protraction Diagram 58 of unsurveyed Township 11 South, Range 2 West, Principal Meridian, Montana, was accepted June 11, 2002.

T. 11 S., R. 1 W.

The plat, representing Amended Protraction Diagram 58 of unsurveyed Township 11 South, Range 1 West, Principal Meridian, Montana, was accepted June 11, 2002.

T. 12 S., R. 1 W.

The plat, representing Amended Protraction Diagram 58 of unsurveyed Township 12 South, Range 1 West, Principal Meridian, Montana, was accepted June 11, 2002.

T. 12 S., R. 2 W.

The plat, representing Amended Protraction Diagram 58 of unsurveyed Township 12 South, Range 2 West, Principal Meridian, Montana, was accepted June 11, 2002.

T. 12 S., R. 3 W.

The plat, representing Amended Protraction Diagram 58 of unsurveyed Township 12 South, Range 3 West, Principal Meridian, Montana, was accepted June 11, 2002.

The amended protraction diagram was prepared at the request of the U.S. Forest Service to accommodate Revision of Primary Base Quadrangle Maps for the Geometronics Service Center.

A copy of the preceding described plats of the amended protraction diagram, accepted June 11, 2002, will be immediately placed in the open files and will be available to the public as a matter of information.

If a protest against this amended protraction diagram, accepted June 11, 2002, as shown on these plats, is received prior to the date of the official filings, the filings will be stayed pending consideration of the protests.

These particular plats of the amended protraction diagram will not be officially filed until the day after all protests have been accepted or dismissed and become final or appeals from the dismissal affirmed.

FOR FURTHER INFORMATION CONTACT: Robert L. Brockie, Cadastral Surveyor, Branch of Cadastral Survey, Bureau of Land Management, 5001 Southgate Drive, P.O. 36800, Billings, Montana 59107-6800, telephone (406) 896-5125 or (406) 896-5009.

Dated: June 26, 2002.
Thomas M. Deiling,
Chief Cadastral Surveyor, Division of Resources.

[FR Doc. 02-18886 Filed 7-25-02; 8:45 am]

BILLING CODE 4310-DN-P